NATIONAL ARCHIVES AND RECORDS ADMINISTRATION

[NARA-2018-054]

Freedom of Information Act (FOIA) Advisory Committee; Meeting

AGENCY: National Archives and Records Administration (NARA).

ACTION: Notice of Federal advisory committee meeting.

SUMMARY: NARA announces an upcoming Freedom of Information Act (FOIA) Advisory Committee meeting.

DATES: The meeting will be on September 6, 2018, from 10:00 a.m. to 1:00 p.m. EDT. You must register for the meeting by 5:00 p.m. EDT on September 4, 2018.

ADDRESSES: National Archives and Records Administration (NARA); 700 Pennsylvania Avenue NW; William G. McGowan Theater; Washington, DC 20408.

FOR FURTHER INFORMATION CONTACT: Kirsten Mitchell, Designated Federal Officer for this committee, by mail at National Archives and Records Administration; Office of Government Information Services; 8601 Adelphi Road—OGIS; College Park, MD 20740-6001, by telephone at 202-741-5770, or by email at foia-advisory-committee@nara.gov.

SUPPLEMENTARY INFORMATION: Agenda and meeting materials: You may find all meeting materials at https://ogis.archives.gov/foia-advisory-committee/2018-2020-term/Meetings.htm. This will be the first meeting of the new committee term. The purpose of this meeting will be to introduce all of the members, review upcoming meeting dates for 2018 and 2019, brainstorm topics for subcommittees, and have Government members receive ethics training.

Procedures: The meeting is open to the public. Due to access procedures, you must register in advance if you wish to attend the meeting. You will also go through security screening when you enter the building. Registration for the meeting will go live via Eventbrite on August 6, 2018, at 10:00 a.m. EDT. To register for the meeting, please do so at this Eventbrite link: https://www.eventbrite.com/e/freedom-of-information-act-foia-advisory-committee-meeting-september-6-2018-registration-48597106253.

This program will be live-streamed on the U.S. National Archives' YouTube channel, https://www.youtube.com/user/usnationalarchives. The webcast will include a captioning option. To request additional accommodations (e.g., a transcript), email foia-advisory-committee@nara.gov or call 202-741-5770. Members of the media who wish to register, those who are unable to register online, and those who require special accommodations, should contact Kirsten Mitchell at the phone number, mailing address, or email address listed above.

Miranda J. Andreacchio,
Committee Management Officer.

[FR Doc. 2018-17235 Filed 8-10-18; 8:45 am]

BILLING CODE 7515-01-P